DEPARTMENT OF COMMERCE

National Oceanic and Atmospheric Administration

RIN 0648-XE853

Magnuson-Stevens Fishery Conservation and Management Act

AGENCY: National Marine Fisheries Service (NMFS), National Oceanic and Atmospheric Administration (NOAA), Commerce.

ACTION: Notice of availability; request for comments.

SUMMARY: NMFS has completed a Draft Environmental Assessment (EA) to consider the potential impacts of authorizing an exempted fishing permit (EFP) for longline vessels to fish within the U.S. West Coast exclusive economic zone (EEZ).

DATES: Written comments on the draft EA must be submitted by October 3, 2016.

ADDRESSES: Written comments on the draft EA should be submitted to the Sustainable Fisheries Division, NMFS, 501 West Ocean Blvd., Suite 4200, Long Beach, CA 90802. Comments may also be submitted by email to RegionalAdministrator.WCRHMS@noaa.gov.

The EA is available for review upon written request or by appointment in the following office: The Sustainable Fisheries Division, NMFS, 501 West Ocean Blvd., Suite 4200, Long Beach, CA 90802; or on NMFS' West Coast Region Web site: http://www.westcoast.fisheries.noaa.gov/fisheries/migratory_species/highly_migratory_species_rules_req.html.

FOR FURTHER INFORMATION CONTACT: Amber Rhodes (ph: 562-980-3231; email: Amber.Rhodes@noaa.gov) or Chris Fanning (ph: 562-980-4198; email: Chris.Fanning@noaa.gov), Long Beach, CA.

SUPPLEMENTARY INFORMATION: This Draft EA was completed to consider potential impacts of issuing an EFP authorizing the applicants to fish with longline gear in the U.S. West Coast EEZ, under specific terms and conditions. According to regulations, a NMFS Regional Administrator may authorize “for limited testing, public display, data collection, exploratory, health and safety, environmental cleanup, and/or hazard removal purposes, the target or incidental harvest of species managed under an FMP [fishery management plan] or fishery regulations that would otherwise be prohibited” (50 CFR 600.745(b)). Issuance of an EFP, which is the proposed action analyzed in this EA, would provide such authorization as fishing with longline gear in the U.S. West Coast EEZ is currently prohibited under the Fishery Management Plan for U.S. West Coast Highly Migratory Species Fisheries and Federal regulation at 550 CFR 660.712(a). The original application for the EFP was discussed during the March 2015 Pacific Fishery Management Council meeting and published on the Council's Web site at: http://www.pcouncil.org/wp-content/uploads/H3a_Att1_Dupuy_etal_MAR2015BB.pdf. A revised application for the EFP and the Council's additional recommendations regarding EFP issuance were published in the Federal Register on May 22, 2015 (80 FR 29662).

Authority: 16 U.S.C. 1801 et seq.

Dated: August 30, 2016.
Emily H. Menashes,
Acting Director, Office of Sustainable Fisheries, National Marine Fisheries Service.

[FR Doc. 2016-21196 Filed 9-1-16; 8:45 am]

BILLING CODE 3510-22-P